DEPARTMENT OF THE TREASURY

Fiscal Service

Surety Companies Acceptable on Federal Bonds: Name Change: FOLKSAMERICA REINSURANCE COMPANY (NAIC #38776)

AGENCY: Financial Management Service, Fiscal Service, Department of the Treasury.

ACTION: Notice.

SUMMARY: This is Supplement No. 7 to the Treasury Department Circular 570; 2008 Revision, published July 1, 2008, at 73 FR 37644.

FOR FURTHER INFORMATION CONTACT: Surety Bond Branch at (202) 874-6850.

SUPPLEMENTARY INFORMATION: FOLKSAMERICA REINSURANCE COMPANY (NAIC #38776), a New York corporation, has formally changed its name to WHITE MOUNTAINS REINSURANCE COMPANY OF AMERICA, effective July 8, 2008. The Company was last listed as an acceptable surety on Federal bonds at 73 FR 37644, July 1, 2008.

A Certificate of Authority as an acceptable surety on Federal bonds, dated today, is hereby issued under Sections 9304 to 9308 of Title 31 of the United States Code, to WHITE MOUNTAINS REINSURANCE COMPANY OF AMERICA. This new Certificate replaces the Certificate of Authority issued to the Company under its former name. The underwriting limitation of $92,661,000 established for the Company as of July 1, 2008, remains unchanged until June 30, 2009. Federal bond-approving officers should annotate their reference copies of the Treasury Circular 570 (“Circular”), 2008 Revision, to reflect this change.

Certificates of Authority expire on June 30th each year, unless revoked prior to that date. The Certificates are subject to subsequent annual renewal as long as the companies remain qualified (31 CFR part 223). A list of qualified companies is published annually as of July 1st in the Circular, which outlines details as to underwriting limitations, areas in which companies are licensed to transact surety business, and other information.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: December 19, 2008.
Vivian L. Cooper,
Director, Financial Accounting and Services Division.

[FR Doc. E8-31078 Filed 12-31-08; 8:45 am]

BILLING CODE 4810-35-M